DEPARTMENT OF TRANSPORTATION

National Highway Traffic Safety Administration

[Docket No. NHTSA-2020-0119]

Notice Regarding the Applicability of NHTSA FMVSS Test Procedures to Certifying Manufacturers

Correction

In notice document 2020-28107 appearing on pages 83143-83152 in the issue of Monday, December 21, 2020, make the following correction:

(1) On page 83143, in the second column, in the DATES section, change “January 20, 2021” to read “January 21, 2021.”

[FR Doc. C1-2020-28107 Filed 1-12-21; 8:45 am]

BILLING CODE 1301-00-D